DEPARTMENT OF THE TREASURY

Internal Revenue Service

Privacy Act of 1974; Computer Matching Program

AGENCY: Internal Revenue Service, Treasury.

ACTION: Notice of matching program.

SUMMARY: Pursuant to section 552a(e)(12) of the Privacy Act of 1974, as amended, and the Office of Management and Budget (OMB) Guidelines on the Conduct of Matching Programs, notice is hereby given of the conduct of the Internal Revenue Service Disclosure of Information to Federal, State and Local Agencies (DIFSLA) Computer Matching Program.

DATES: Effective Date: This notice will be effective November 2, 2015.

ADDRESSES: Inquiries may be mailed to the Internal Revenue Service; Privacy, Governmental Liaison and Disclosure; Data Services; ATTN: Klaudia K. Villegas, Program Manager, 300 N. Los Angeles Street, MS 1020, Los Angeles, CA 90012.

FOR FURTHER INFORMATION CONTACT: Internal Revenue Service; Privacy, Governmental Liaison and Disclosure; Data Services; ATTN: Klaudia K. Villegas, Program Manager, 300 N. Los Angeles Street, MS 1020, Los Angeles, CA 90012. Telephone: (213) 576-4223 (not a toll-free number).

SUPPLEMENTARY INFORMATION: The notice of the matching program was last published at 78 FR 26696-26697 (May 7, 2013). The Colorado Department of Human Services is no longer participating in the DIFSLA Computer Matching Program and the Ohio Department of Medicaid is now participating in the DIFSLA Computer Matching Program. Members of the public desiring specific information concerning an ongoing matching activity may request a copy of the applicable computer matching agreement at the address provided above.

Purpose: The purpose of this program is to prevent or reduce fraud and abuse in certain federally assisted benefit programs while protecting the privacy interest of the subjects of the match. Information is disclosed by the Internal Revenue Service only for the purpose of, and to the extent necessary in, determining eligibility for, and/or the correct amount of, benefits for individuals applying for or receiving certain benefit payments.

Authority: In accordance with section 6103(l)(7) of the Internal Revenue Code (IRC), the Secretary shall, upon written request, disclose current return information from returns with respect to unearned income from the Internal Revenue Service files to any federal, state or local agency administering a program listed below:

(i) A state program funded under part A of Title IV of the Social Security Act;

(ii) Medical assistance provided under a state plan approved under Title XIX of the Social Security Act, or subsidies provided under section 1860D-14 of such Act;

(iii) Supplemental security income benefits provided under Title XVI of the Social Security Act, and federally administered supplementary payments of the type described in section 1616(a) of such Act (including payments pursuant to an agreement entered into under section 212(a) of Pub. L. 93-66);

(iv) Any benefits provided under a state plan approved under Title I, X, XIV, or XVI of the Social Security Act (as those titles apply to Puerto Rico, Guam, and the Virgin Islands);

(v) Unemployment compensation provided under a state law described in section 3304 of the IRC;

(vi) Assistance provided under the Food and Nutrition Act of 2008;

(vii) State-administered supplementary payments of the type described in section 1616(a) of the Social Security Act (including payments pursuant to an agreement entered into under section 212(a) of Pub. L. 93-66);

(viii)(I) Any needs-based pension provided under Chapter 15 of Title 38, United States Code, or under any other law administered by the Secretary of Veterans Affairs;

(viii)(II) Parents' dependency and indemnity compensation provided under section 1315 of Title 38, United States Code;

(viii)(III) Health-care services furnished under sections 1710(a)(2)(G), 1710(a)(3), and 1710(b) of such title.

Name of Recipient Agency: Internal Revenue Service. Categories of records covered in the match: Information returns (e.g., Forms 1099-DIV, 1099-INT and W-2G) filed by payers of unearned income in the Internal Revenue Service Information Returns Master File (IRMF) (Treasury/IRS 22.061).

Name of source agencies and categories of records covered in the match:

A. Federal agencies expected to participate and their Privacy Act systems of records are:

1. Department of Veterans Affairs: Veterans Benefits Administration—Compensation, Pension and Education and Rehabilitation Records-VA, 58 VA 21/22; and Veterans Health Administration—Healthcare Eligibility Records, 89VA19; and

2. Social Security Administration, Office of Systems Requirements— Supplemental Security Income Record and Special Veterans Benefits, (60-0103).

B. State agencies expected to participate using non-federal systems of records are:

1. Alabama Department of Human Resources

2. Alabama Medicaid Agency

3. Alaska Department of Health & Social Services

4. Arizona Department of Economic Security

5. Arkansas Department of Human Services

6. California Department of Social Services

7. Connecticut Department of Social Services

8. Delaware Department of Health & Social Services

9. DC Department of Human Services

10. Florida Department of Children & Families

11. Georgia Department of Human Resources

12. Hawaii Department of Human Services

13. Idaho Department of Health/Welfare

14. Illinois Department of Human Services

15. Indiana Family & Social Services Administration

16. Iowa Department of Human Services

17. Kansas Department of Social/Rehab Services

18. Kentucky Cabinet for Health and Family Services

19. Louisiana Department of Health & Hospitals

20. Louisiana Department of Children and Family Services

21. Maine Department of Human Services

22. Maryland Department of Human Services

23. Massachusetts Department of Transitional Assistance

24. Michigan Department of Human Services

25. Minnesota Department of Human Services

26. Mississippi Department of Human Services

27. Mississippi Division of Medicaid

28. Missouri Department of Social Services

29. Montana Department of Public Health & Human Services

30. Nebraska Department of Health & Human Services

31. Nevada Department of Health and Human Services

32. New Hampshire Department of Health & Human Services

33. New Jersey Department of Human Services

34. New Mexico Human Services Department

35. New York Office of Temporary & Disability Assistance

36. North Carolina Department of Health & Human Services

37. North Dakota Department of Human Services

38. Ohio Department of Job and Family Services

39. Ohio Department of Medicaid

40. Oklahoma Department of Human Services

41. Oregon Department of Human Resources

42. Pennsylvania Department of Public Welfare

43. Rhode Island Department of Human Services

44. South Carolina Department of Social Services

45. South Dakota Department of Social Services

46. Tennessee Department of Human Services

47. Texas Health and Human Services Commission

48. Utah Department of Workforce Services

49. Vermont Department for Children and Families

50. Virginia Department of Social Services

51. Washington Department of Social & Health Services

52. West Virginia Department of Health and Human Services

53. Wisconsin Department of Health Services

54. Wyoming Department of Family Services

Beginning and completion dates: The matches are conducted on an ongoing basis in accordance with the terms of the computer matching agreement in effect with each participant as approved by the applicable Data Integrity Board(s). The term of these agreements is expected to cover the 18-month period, January 1, 2016 through June 30, 2017. Ninety days prior to expiration of the agreement, the parties to the agreement may request a 12-month extension in accordance with 5 U.S.C. 552a(o).

Dated: September 24, 2015.
Helen Goff Foster,
Deputy Assistant Secretary for Privacy, Transparency, and Records.

[FR Doc. 2015-24648 Filed 9-30-15; 8:45 am]

BILLING CODE 4830-01-P